DEPARTMENT OF COMMERCE

Agency Information Collection Activities; Submission for OMB Review; Comment Request; Reporting Process for Complaint of Employment Discrimination Used by Permanent Employees and Applicants for Employment at DOC and Complaint of Employment Discrimination for the Decennial Census

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 1, 2020 during a 60-day comment period. We received public comments. This notice allows for an additional 30 days for public comments.

Agency: Office of the Secretary, Office of Civil Rights, Commerce.

Title: Complaint of Employment Discrimination against the Department of Commerce.

OMB Control Number: 0690-0015.

Form Number(s): CD-498, 498-A.

Type of Request: Regular (extension of a currently approved information collection).

Number of Respondents: 600.

Average Hours per Response: 30.

Burden Hours: 300.

Needs and Uses: The Equal Employment Opportunity Commission (EEOC) regulations at 29 CFR 1614.106 require that a Federal employee or applicant for Federal employment alleging discrimination based on race, color, sex, national origin, religion, age, disability, or reprisal for protected activity must submit a signed statement that is sufficiently precise to identify the actions or practices that form the bases of the complaint. The individual completing the form is asked to identify the bureau at which the alleged discrimination took place, and whether the individual worked at that bureau at the time of the alleged discrimination. The individual completing the form is also asked to describe the alleged discriminatory action(s) as clearly as possible and include the date(s) and to articulate the basis or bases of the complaint (race, color, sex, etc.). Further, the individual completing the form is asked to identify the remedy(ies) sought for the alleged discrimination. Although complainants are not required to use the proposed form to file their complaints, the Office of Civil Rights strongly encourages its use to ensure efficient case processing and trend analyses of complaint activity.

The notice requesting public comment was published in the Federal Register on October 1, 2020, 85 FR 61923. Public comment was received from Lisa Schnall, Senior Attorney Advisor, Office of Legal Counsel, Equal Employment Opportunity Commission on November 30, 2020.

With respect to the CD-498 and CD-498A forms specifically, Ms. Schnall recommended that the Department of Commerce update information on Form CD-498A regarding the processing of sexual orientation discrimination complaints and ensure that Forms CD-498 and 498A include comprehensive lists of the protected bases under federal employment discrimination laws. Ms. Schnall also suggested that the Department of Commerce add the legal citation for 42 U.S.C. 2000ff and “genetic information” (or “genetic information (such as family medical history”) to the Privacy Act Statement. Ms. Schnall also suggested that the Department of Commerce (3) ensure that the disclosure provisions applicable to Forms CD-498 and CD-498A are consistent with the confidentiality requirements of the Rehabilitation Act of 1973, as amended (Rehabilitation Act) and Title II of the Genetic Information Nondiscrimination Act (GINA). Ms. Schnall further recommended that the Department of Commerce provide options for agency applicants and employees to submit employment discrimination complaint forms and related information safely and expeditiously during the pandemic.

In response to the public comment received, the Department of Commerce has updated information on Form CD-498A regarding the processing of sexual orientation discrimination complaints and has included comprehensive lists of the protected bases under federal employment discrimination laws to both forms CD-498 and CD-498A. Additionally, the Department of Commerce has added the legal citation for 42 U.S.C. 2000ff and “genetic information” (or “genetic information (such as family medical history”) to the Privacy Act Statement in form CD-498A. Further, the Department of Commerce has added language to help ensure that the disclosure provisions applicable to Forms CD-498 and CD-498A are consistent with the confidentiality requirements of the Rehabilitation Act of 1973, as amended (Rehabilitation Act) and Title II of the Genetic Information Nondiscrimination Act (GINA). Last, with respect to the recommendation regarding the Department of Commerce providing options for agency applicants and employees to submit employment discrimination complaint forms and related information safely and expeditiously during the pandemic, the Department of Commerce currently has an effective procedure in place which addresses this concern (i.e., the option to submit complaint forms by email to the Office of Civil Rights or to the applicable Bureau EEO Officer is noted on the Notice of Right to File which is issued to complainants and which accompanies the CD-498 or CD-498A).

Affected Public: Individuals and households.

Frequency: On occasion.

Respondent's Obligation: Voluntary.

Legal Authority: 29 CFR 1614.106.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0690-0015.

Sheleen Dumas,
Department PRA Clearance Officer, Office of the Chief Information Officer, Commerce Department.

[FR Doc. 2020-28171 Filed 12-21-20; 8:45 am]

BILLING CODE 3510-BP-P